DEPARTMENT OF THE INTERIOR

Minerals Management Service

Agency Information Collection Activities: Submitted for Office of Management and Budget (OMB) Review; Comment Request

AGENCY: Minerals Management Service (MMS), Interior.

ACTION: Notice of extension of a currently approved information collection (OMB Control Number 1010-0043).

SUMMARY: To comply with the Paperwork Reduction Act of 1995 (PRA), we are submitting to OMB for review and approval an information collection request (ICR), titled “30 CFR 250, Subpart F, Oil and Gas Well-Workover Operations.” We are also soliciting comments from the public on this ICR.

DATE: Submit written comments by August 6, 2001.

ADDRESSES: You may submit comments directly to the Office of Information and Regulatory Affairs, OMB, Attention: Desk Officer for the Department of the Interior (1010-0043), 725 17th Street, NW., Washington, DC 20503. Mail or hand carry a copy of your comments to the Department of the Interior, Minerals Management Service, Attention: Rules Processing Team, Mail Stop 4024, 381 Elden Street; Herndon, Virginia 20170-4817. If you wish to e-mail comments, the e-mail address is: rules.comments@mms.gov. Reference “Information Collection 1010-0043” in your e-mail subject line. Include your name and return address in your e-mail message and mark your message for return receipt.

Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain at no cost a copy of our submission to OMB, which includes the regulations that require this information to be collected.

SUPPLEMENTARY INFORMATION: Title: 30 CFR 250, Subpart F, Oil and Gas Well-Workover Operations.

OMB Control Number: 1010-0043.

Abstract: The Outer Continental Shelf (OCS) Lands Act (43 U.S.C. 1331 et seq.), as amended, requires the Secretary of the Interior (Secretary) to preserve, protect, and develop sulphur resources on the OCS; make such resources available to meet the Nation's energy needs as rapidly as possible; balance orderly energy resources development with protection of the human, marine, and coastal environments; ensure the public a fair and equitable return on the resources offshore; and preserve and maintain free enterprise competition. Section 5(a) of the OCS Lands Act requires the Secretary to prescribe rules and regulations “to provide for the prevention of waste, and conservation of the natural resources of the Outer Continental Shelf, and the protection of correlative rights therein” and to include provisions “for the prompt and efficient exploration and development of a lease area.” These authorities and responsibilities are among those delegated to MMS under which we issue regulations to ensure that operations in the OCS will meet statutory requirements; provide for safety and protection of the environment; and result in diligent exploration, development, and production of OCS leases. This information collection request addresses the regulations at 30 CFR 250, subpart F, Oil and Gas Well-Workover Operations and the associated supplementary notices to lessees and operators intended to provide clarification, description, or explanation of these regulations.

MMS District Supervisors use the information collected to analyze and evaluate planned well-workover operations to ensure that operations result in personnel safety and protection of the environment. They use this evaluation in making decisions to approve, disapprove, or to require modification to the proposed well-workover operations. For example, MMS uses the information to:

• Review log entries of crew meetings to verify that safety procedures have been properly reviewed.

Review well-workover procedures relating to hydrogen sulfide (H2S) to ensure the safety of the crew in the event of encountering H2S.

• Review well-workover diagrams and procedures to ensure the safety of well-workover operations.

• Verify that the crown block safety device is operating and can be expected to function and avoid accidents.

• Verify that the proposed operation of the annular preventer is technically correct and will provide adequate protection for personnel, property, and natural resources.

• Verify the reasons for postponing blowout preventer (BOP) tests, verify the state of readiness of the equipment and to ascertain that the equipment meets safety standards and requirements, ensure that BOP tests have been conducted in the manner and frequency to promote personnel safety and protect natural resources. Specific testing information must be recorded to verify that the proper test procedures were followed.

• Assure that the well-workover operations are conducted on well casing that is structurally competent.

Responses are mandatory. No questions of a sensitive nature are asked. MMS will protect proprietary information according to 30 CFR 250.196 (Data and information to be made available to the public) and 30 CFR part 252 (OCS Oil and Gas Information Program).

Frequency: The frequency varies by section, but is primarily monthly or “on occasion.”

Estimated Number and Description of Respondents: Approximately 130 Federal OCS oil and gas or sulphur lessees and operators.

Estimated Annual Reporting and Recordkeeping “Hour” Burden: The following chart details the components of the estimated hour burden for the information collection requirements in subpart F—19,205 total burden hours. In estimating the burden, we assumed that respondents perform certain requirements in the normal course of their activities. We consider these to be usual and customary and took that into account in estimating the burden.

Citation 30 CFR 250 Subpart F | Reporting or Recordkeeping Requirement | Requirement Hour Burden
Reporting Requirements
602 | Request exceptions prior to moving well-workover equipment | 1 hour
605; 613; 615(a) | Request approval to begin subsea well-workover operations; submit forms MMS-124 and/or MMS- 125 | Burden included in 1010-0045 and 1010-0046
614 | Post number of stands of drill pipe or workover string and drill collars that may be pulled prior to filling the hole and equivalent well-control fluid volume | .25 hour
616(a) | Request exception to rated working pressure of the BOP equipment; request exception to annular-type BOP testing | 2 hours
617(b) | Pressure test, caliper, or otherwise evaluate tubing & wellhead equipment casing; submit results (every 30 days during prolonged operations) | 6 hours
617(c) | Notify MMS if sustained casing pressure is observed on a well | .25 hour
600 thru 618 | General departure and alternative compliance requests not specifically covered elsewhere in subpart F regulations | 2 hours
Recordkeeping Requirements
606 | Instruct crew members in safety requirements of operations to be performed; document meeting (weekly for 2 crews x 2 weeks per workover = 4) | 1 hour
611 | Perform operational check of traveling-block safety device; document results (weekly x 2 weeks per workover = 2) | 1 hour
616(a), (b), (d), (e) | Perform BOP pressure tests, actuations & inspections; record results; retain records 2 years following completion of workover activities (when installed; at a minimum every 7 days x 2 weeks per workover = 2) | 8 hours
616(b)(2) | Test blind or blind-shear rams; document results (every 30 days during operations). (Note: this is part of BOP test when BOP test is conducted.) | 1 hour
616(b)(2) | Record reason for postponing BOP system tests | .5 hour
616(c) | Perform crew drills; record results (weekly for 2 crews x 2 weeks per workover = 4) | 1 hour

Estimated Annual Reporting and Recordkeeping “Non-Hour Cost” Burden: We have identified no “non-hour cost” burdens.

Comments: Section 3506(c)(2)(A) of the PRA (44 U.S.C. 3501, et seq.) requires each agency ”* * * to provide notice * * * and otherwise consult with members of the public and affected agencies concerning each proposed collection of information . . .” Agencies must specifically solicit comments to: (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 8, 2001, we published a Federal Register notice (66 FR 13951) announcing that we would submit this ICR to OMB for approval. The notice provided the required 60-day comment period. In addition, § 250.199 displays the OMB control numbers for the information collection requirements imposed by the 30 CFR part 250 regulations and forms; specifies that the public may comment at anytime on these collections of information; and provides the address to which they should send comments. We have received no comments in response to these efforts. We also consulted with several respondents and the foregoing chart reflects adjustments for some of the requirement hour burdens as a result of those consultations.

If you wish to comment in response to this notice, send your comments directly to the offices listed under the ADDRESSES section of this notice. The OMB has up to 60 days to approve or disapprove the information collection but may respond after 30 days. Therefore, to ensure maximum consideration, OMB should receive public comments by August 6, 2001. The PRA provides that an agency may not conduct or sponsor, and a person is not required to respond to, a collection of information unless it displays a currently valid OMB control number.

MMS Information Collection Clearance Officer: Jo Ann Lauterbach, (202) 208-7744.

Dated: May 17, 2001.
E.P. Danenberger,
Chief, Engineering and Operations Division.

[FR Doc. 01-16970 Filed 7-5-01; 8:45 am]

BILLING CODE 4310-MR-P